DEPARTMENT OF COMMERCE

National Oceanic and Atmospheric Administration

50 CFR Part 660

[Docket No. 220510-0113; RTID 0648-XC210]

Fisheries Off West Coast States; Modification of the West Coast Salmon Fisheries; Inseason Actions #26 Through #33

AGENCY: National Marine Fisheries Service (NMFS), National Oceanic and Atmospheric Administration (NOAA), Commerce.

ACTION: Inseason modification of 2022 management measures.

SUMMARY: NMFS announces eight inseason actions in the 2022 ocean salmon fisheries. These inseason actions modify the recreational, commercial, and treaty Indian salmon fisheries in the area from the U.S./Canada border to Cape Falcon, Oregon.

DATES: The effective dates for the inseason actions are set out in this document under the heading Inseason Actions and the actions remain in effect until superseded or modified.

FOR FURTHER INFORMATION CONTACT: Shannon Penna at 562-980-4239, Email: Shannon.Penna@noaa.gov.

SUPPLEMENTARY INFORMATION:

Background

The 2022 annual management measures for ocean salmon fisheries (87 FR 29690; May 16, 2022), announced management measures for the commercial and recreational fisheries in the area from the U.S./Canada border to the U.S./Mexico border, effective from 0001 hours Pacific Daylight Time (PDT), May 16, 2022, until the effective date of the 2023 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The actions described in this document affect the NOF commercial and recreational salmon fisheries, as set out under the heading Inseason Action below.

Consultations with the Council Chairperson on these inseason actions occurred on July 13, 2022, and July 19, 2022. Representatives from NMFS, Washington Department of Fish and Wildlife (WDFW), Oregon Department of Fish and Wildlife (ODFW), California Department of Fish and Wildlife (CDFW) and Council staff participated in these consultations. Members of the Salmon Advisory Subpanel and Salmon Technical Team (STT) were also present on the calls.

These inseason actions were announced on NMFS' telephone hotline and U.S. Coast Guard radio broadcast on the date of the consultations (50 CFR 660.411(a)(2)).

Inseason Actions

Inseason Action #26

Description of the action: Inseason action #26 modifies the recreational salmon fishery from Cape Alava to the Queets River (La Push subarea), starting at 12:01 a.m. on Saturday, July 16, 2022, the daily bag limit is two salmon, Chinook salmon retention prohibited. All coho salmon must be marked with a healed adipose fin clip.

Effective date: Inseason action #26 took effect on July 16, 2022, and remains in effect until July 24, 2022, at 11:59 p.m.

Reason and authorization for the action: Due to larger than expected Chinook salmon catch, inseason action #26 was necessary to reduce Chinook salmon catch to preserve the length of the season while avoiding exceedance of the Chinook salmon guideline for this area and maximizing catch of the available coho salmon quota. Cape Alava to the Queets River (La Push subarea) opened with a coho salmon quota of 4,370 and a Chinook salmon guideline of 1,120. Through July 10, 2022, 333 coho salmon (8 percent of the subarea quota) and 287 Chinook salmon (26 percent of the subarea guideline) were caught in the La Push subarea.

The NMFS West Coast Regional Administrator (RA) considered the landings of Chinook and coho salmon to date and projected catches, fishery effort occurring to date and projected effort, quotas and guidelines set preseason, and the recreational Chinook salmon guideline remaining. The RA determined that this inseason action was necessary to preserve the available recreational Chinook salmon guideline in the La Push subarea in order to meet management goals set preseason, including the Pacific Coast Salmon Fishery Management Plan objective to extend the fishing season through Labor Day weekend if feasible and consistent with the available quota. The modification of recreational bag limits is authorized by 50 CFR 660.409(b)(1)(iii).

Inseason Action #27

Description of the action: Inseason action #27 modifies the recreational salmon fishery from Cape Alava to the Queets River (La Push subarea). Starting at 12:01 a.m. on July 25, 2022, the daily bag limit is two salmon, only one of which may be a Chinook salmon. All coho salmon must be marked with a healed adipose fin clip. Chum salmon retention is prohibited beginning August 1, 2022.

Effective date: Inseason action #27 took effect on July 25, 2022, and remains in effect until superseded.

Reason and authorization for the action: Due to larger than expected Chinook salmon catch, inseason action #27 was necessary to manage Chinook salmon catch to preserve the length of the season while avoiding exceedance of the Chinook salmon guideline and maximizing catch of the available coho salmon quota. Cape Alava to the Queets River (La Push subarea) opened with a coho salmon quota of 4,370 and a Chinook salmon guideline of 1,120. Through July 10, 2022, 333 coho salmon (8 percent of the subarea quota) and 287 Chinook salmon (26 percent of the subarea guideline) were caught in the La Push subarea. These adjustments ensured that sufficient Chinook salmon guideline in the area from Cape Alava to the Queets River (La Push subarea) was available to extend the recreational salmon season.

The RA considered the landings of Chinook and coho salmon to date and projected catches, fishery effort occurring to date and projected effort, quotas and guidelines set preseason, and the recreational Chinook salmon guideline remaining. The RA determined that this inseason action was necessary to preserve the available recreational Chinook salmon guideline in the La Push subarea in order to meet management goals set preseason. The modification of recreational bag limits is authorized by 50 CFR 660.409(b)(1)(iii).

Inseason Action #28

Description of the action: Inseason action #28 modifies the recreational salmon fishery; starting at 12:01 a.m. on July 16, 2022, the area from Leadbetter Point to Cape Falcon, OR (Columbia River subarea North of 46°15′ N and East of 124°08′40″ W), is closed.

Effective date: Inseason action #28 took effect on July 16, 2022, and remains in effect until superseded.

Reason and authorization for the action: Due to larger than expected Chinook salmon catch, inseason action was necessary to limit recreational fishing in the area from Leadbetter Point to Cape Falcon (Columbia River subarea) to slow down Chinook salmon catch to ensure that sufficient quota remains to access coho salmon and preserve the length of the season while avoiding exceedance of the Chinook salmon guideline. This subarea opened with a coho salmon quota of 84,000 and a Chinook salmon guideline of 7,700. Through July 10, 2022, 6,761 coho salmon were caught (8 percent of the subarea quota) and 2,265 Chinook salmon were caught (29 percent of the subarea guideline).

The RA considered the landings of Chinook and coho salmon to date and projected catch, fishery effort occurring to date and projected effort, and quotas and guidelines set preseason and determined that this inseason action was necessary to extend the recreational salmon season in this area in order to meet management goals set preseason. Inseason actions to modify boundaries, including landing boundaries, and establishment of closed areas is authorized under 50 CFR 660.409(b)(1)(v).

Inseason Action #29

Description of the action: Inseason action #29 modifies the landing and possession limit for the commercial salmon troll fishery across the entire north of Cape Falcon area, regardless of subarea, to 30 Chinook salmon per vessel per landing week (Thursday through Wednesday).

Effective date: Inseason action took effect on July 21, 2022, and remains in effect until superseded.

Reason and authorization for the action: Inseason action #29 was necessary to slow the rate of Chinook salmon catch in order to preserve the length of the season by setting a lower landing and possession limit. The RA considered the landings of Chinook salmon to date and projected catch, fishery effort occurring to date and projected effort, and quotas set preseason and determined that this inseason action was necessary to provide greater fishing opportunity and provide economic benefit to the fishery dependent community by preserving season length. The modification of commercial landing and possession limits is authorized by 50 CFR 660.409(b)(1)(i).

Inseason Action #30

Description of the action: Inseason action #30 modifies the recreational salmon fishery from the Queets River to Leadbetter Point (Westport subarea). The daily bag limit is two salmon per day, Chinook salmon retention prohibited on Fridays and Saturdays. Sunday through Thursday, the daily bag limit allows one of the two salmon to be a Chinook salmon.

Effective date: Inseason action took effect on July 22, 2022, and remains in effect until superseded.

Reason and authorization for the action: Chinook salmon catch rates have been higher than anticipated preseason. This inseason action was necessary to slow down the Chinook salmon catch in order to preserve the length of the season while avoiding exceedance of the Chinook salmon guideline. For the week of July 11, 2022, through July 17, 2022, for the area from the Queets River to Leadbetter Point (Westport subarea), 1,424 Chinook salmon were landed, bringing the cumulative total to 4,145 Chinook salmon (34 percent of the guideline). In addition, 1,736 coho salmon were landed, bringing the cumulative total to 3,851 coho salmon (6 percent of the quota).

The RA determined that this inseason was necessary to remain within the available recreational Chinook salmon guideline in the Westport subarea in order to meet management goals set preseason including the Pacific Coast Salmon Fishery Management Plan objective to extend the fishing season through Labor Day weekend if feasible and consistent with the available quota. The modification of recreational bag limits is authorized by 50 CFR 660.409(b)(1)(iii).

Inseason Action #31

Description of the action: Inseason action #31 modifies the tribal salmon troll fishery for the Makah Tribe. Effective 11:59 p.m. on, July 24, 2022, Area 3 north of 48°02′15″ N. (Norwegian Memorial) and Areas 4, 4A, and 4B, the fishery is closed until further notice.

Effective dates: Inseason action #31 took effect on July 24, 2022, and remains in effect until superseded.

Reason and authorization for the action: The Makah Tribe found that it was necessary to close the fishery in order to assess Chinook and coho salmon catches to date and develop a plan for reopening the tribal fishery for the remainder of the season in order to stay within the preseason treaty tribal troll quota and preserve season length. The Makah Tribe notified staff from NMFS, Council, and WDFW of the need to close the fishery. The RA concurred with the closure. Modification of quotas and/or fishing seasons is authorized by 50 CFR 660.409(b)(1)(i).

Inseason Action #32

Description of the action: Inseason action #32 modifies the July-September sub-quota for the treaty Indian salmon fishery north of Cape Falcon that was set preseason at 20,000 Chinook salmon, to 34,547 Chinook salmon through an impact-neutral rollover of unused May-June sub-quota.

Effective dates: Inseason action #32 took effect on July 1, 2022, and remains in effect until the end of the 2022 treaty Indian salmon season on September 15, 2022, at 11:59 p.m.

Reason and authorization for the action: The tribal fisheries reported a remaining catch of 14,457 Chinook salmon from the May-June fishery sub-quota of 20,000 Chinook. The STT determined the overage could be rolled over to the July-September fishery on an impact-neutral basis resulting in a new Chinook salmon sub-quota for the July-September period of 34,547. The Makah Tribe notified staff from NMFS, Council, and WDFW of the need for modification of the July-September quota. The RA concurred with the quota modification. Modification of quotas and/or fishing seasons is authorized by 50 CFR 660.409(b)(1)(i).

Inseason Action #33

Description of the action: Inseason action #33 modifies the tribal salmon troll fishery for the Makah Tribe. Effective 11:59 p.m. on Tuesday, July 26, until the end of the management period (September 15, 2022), Area 3 north of 48°02′15″ N. (Norwegian Memorial) and Areas 4, 4A, and 4B, are open. The landing limit is not to exceed 300 Chinook salmon per vessel per calendar week (12:01 a.m. Sunday-11:59 p.m. Saturday). After August 1, release all chum.

Effective dates: Inseason action was effective on July 26, 2022, and will remain in effect until September 15, 2022, at 11:59 p.m.

Reason and authorization for the action: The Makah Tribe evaluated the catch and landings and determined that implementing a landing limit to 300 Chinook salmon per vessel per calendar week would slow down the Chinook salmon catch while still allowing access to coho salmon for the remainder of the season. The Makah Tribe notified staff from NMFS, Council, and WDFW of the need to open the fishery and the regulatory provisions adopted. The RA concurred with the season modification. Modification of quotas and/or fishing seasons is authorized by 50 CFR 660.409(b)(1)(i).

All other management measures remain in effect as announced for the 2022 ocean salmon fisheries (87 FR 29690; May 16, 2022), as modified by previous inseason actions (87 FR 41260, July 12, 2022; 87 FR 49534, August 11).

The RA determined that these inseason actions were warranted based on the best available information on Pacific salmon abundance forecasts, landings to date, anticipated fishery effort and projected catch, and the other factors and considerations set forth in 50 CFR 660.409. The states and tribes manage the fisheries in state waters adjacent to the areas of the U.S. exclusive economic zone (3-200 nautical miles (5.6-370.4 kilometers)) off the coasts of the states of Washington, Oregon, and California) consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and are exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available and that fishery participants can take advantage of the additional fishing opportunity these changes provide. As previously noted, actual notice of the regulatory actions was provided to fishers through telephone hotline and radio notification. These actions comply with the requirements of the annual management measures for ocean salmon fisheries (87 FR 29690; May 16, 2022), the Fishery Management Plan (FMP), and regulations implementing the FMP under 50 CFR 660.409 and 660.411.

There is good cause under 5 U.S.C. 553(d)(3) to waive the 30-day delay in effective date, as a delay in effectiveness of this action would restrict fishing at levels inconsistent with the goals of the FMP and the current management measures.

Authority: 16 U.S.C. 1801 et seq.

Dated: August 22, 2022.
Jennifer M. Wallace,
Acting Director, Office of Sustainable Fisheries, National Marine Fisheries Service.

[FR Doc. 2022-18344 Filed 8-24-22; 8:45 am]

BILLING CODE 3510-22-P